DEPARTMENT OF LABOR

Office of the Assistant Secretary for Veterans' Employment and Training Service (VETS)

Fiscal Years (FY) 2009 and 2010 Stand Down Grant Award Requests

ACTION: Follow up announcement of available FY 2009 and FY 2010 funds to support local Stand Down events.

AGENCY: Veterans' Employment and Training Service, Labor.

Announcement Type: Follow-up Notice of Available Funds and Solicitation for Grant Applications. The full announcement is posted on the VETS Web site at: http://www.dol.gov/vets/programs/stand%20down/main.htm.

Funding Opportunity Number: 17-805.

Key Dates: To be considered for FY 2009 funding, applications must be received at least sixty (60) days prior to the event and no later than July 30, 2009. Applications for events planned in FY 2010 must be received at least sixty (60) days prior to the event and no later than July 30, 2010.

Funding Opportunity Description: The U.S. Department of Labor (USDOL), Veterans' Employment and Training Service (VETS) continues to support local Stand Down events that assist homeless veterans. A Stand Down is an event held in a local community where homeless veterans are provided with a wide variety of social services including employment assistance.

Under this announcement, VETS anticipates that up to $400,000 will be available in each year for grant awards of up to a maximum of $10,000 per multi-day event (more than one day), and a maximum of $7,000 for a one (1) day event. VETS expects to award approximately forty-five (45) grants each fiscal year. Availability of FY 2010 funds will be dependent upon Congressional appropriations. Applications for Stand Down funds will be accepted from State Workforce Agencies and State and local Workforce Investment Boards, Veterans Service Organizations (VSO), local public agencies, and non-profit organizations, including community and faith-based organizations. USDOL is not authorized to award grant funds to organizations that are registered with Internal Revenue Service (IRS) as a 501(c)(4) organization.

Applications for Stand Down grant funding should be submitted to the appropriate State Director of Veterans Employment and Training/Grant Officer Technical Representative (DVET/GOTR). Address and contact information for each State DVET/GOTR can be found at Web site address: http://www.dol.gov/vets/aboutvets/contacts/main.htm. The closing date for receipt of applications is sixty (60) days prior to the event or July 30, 2009. Any events approved in FY 2009 must be held prior to December 31, 2009.

Applications for events planned in FY 2010 must be received at least sixty (60) days prior to the event and no later than July 30, 2010.

The full Solicitation for Grant Application for Stand Downs is posted on the VETS Web site (http://www.dol.gov/vets/aboutvets/contacts/main.htm. If you need to speak to a person concerning these grants, or if you have issues regarding access to the VETS Web site, you may telephone Kenneth Fenner at 202-693-4728 (not a toll-free number).

Signed at Washington, DC this 29th day of June 2009.
Cassandra R. Mitchell,
Grant Officer.

[FR Doc. E9-15772 Filed 7-2-09; 8:45 am]

BILLING CODE 4510-79-P